DEPARTMENT OF HEALTH AND HUMAN SERVICES

Centers for Disease Control and Prevention

[30DAY-34-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Projects

1. Public Health Infrastructure Surveillance and Performance Monitoring Network—New—The Centers for Disease Control and Prevention (CDC) proposes to establish a sentinel network of 320 local health departments to provide ongoing public health system infrastructure and capacity data. As the nation's prevention agency, CDC is working to support the U.S. public health mission of rapidly detecting disease and health risks, rapidly communicating and strengthening the capacity to respond. Towards this goal, CDC proposes to assess and strengthen the nation's public health infrastructure by developing a network of local health departments that will provide ongoing information to public health leaders, policy makers, program managers and others to identify needs, target resources, and assist in overall preparedness. Data gathered by survey from the sentinel network will also lead to improvement of the public health communications systems and reinforced training and credentialing for core workforce skills, and will help in developing standards for improved organizational performance.

The purpose of this Sentinel System is to: (1) Provide data to assist with monitoring and measuring local public health systems; (2) assess the public health infrastructure including data and information systems, public health workforce, and effective public health organizations that enable the performance of the essential public health services in every community; and (3) evaluate the use of these data in developing strategies to strengthen the infrastructure of public health. This data will allow CDC and the public health community to improve infrastructure quality and capacity. Examples of cross-cutting infrastructure issues that may be identified by this data include the extent of under-funding of public health, the need for effective local leadership and for integrated electronic information systems, and the emerging role of measurable standards for local health departments.

The main respondents to the survey will be local health officers. The annual burden hours are estimated to be 1,920.

Respondents | Number of respondents | Number of responses/respondent | Avg. burden/response (in hrs.) | Total burden (in hrs.)
Local public health systems | 320 | 1 | 6 | 1,920
Total |  |  |  | 1,920

Dated: May 19, 2000.
Charles W. Gollmar,
Acting Associate Director for Policy, Planning and Evaluation, Centers for Disease Control and Prevention (CDC).

[FR Doc. 00-13244 Filed 5-25-00; 8:45 am]

BILLING CODE 4163-18-P